DEPARTMENT OF HEALTH AND HUMAN SERVICES

Centers for Disease Control and Prevention

[Docket No. CDC-2024-0103; NIOSH 355]

Expansion of NIOSH B Reader Certification Eligibility; Request for Information

AGENCY: Centers for Disease Control and Prevention (CDC), Department of Health and Human Services (HHS).

ACTION: Request for information.

SUMMARY: The B Reader Program, administered by CDC's National Institute for Occupational Safety and Health (NIOSH), is seeking information from experts in occupational respiratory health surveillance and radiology, nurse practitioners, physician assistants, workers exposed to mineral dust and unions representing such workers, industry and other parties interested in allowing nurse practitioners and physician assistants to be eligible to take the NIOSH B Reader examination and become certified B Readers if they successfully pass the examination.

DATES: Comments must be received by March 17, 2025.

ADDRESSES: Submit comments by either of the following methods:

• Federal eRulemaking Portal: https://www.regulations.gov. Follow the instructions for submitting comments.

• Mail: NIOSH Docket Office, Robert A. Taft Laboratories, MS C-34, 1090 Tusculum Avenue, Cincinnati, Ohio 45226-1998.

Instructions: All written submissions received in response to this document must include the agency name and docket number (CDC-2024-0103; NIOSH-355) for this activity. All relevant comments, including any personal information provided, will be posted without change to https://www.regulations.gov. Do not submit comments by email.

FOR FURTHER INFORMATION CONTACT: Laura E. Reynolds, NIOSH B Reader Program, Respiratory Health Division, 1095 Willowdale Road, MS HG900.2, Morgantown, WV 26505-2888; (304) 285-5853 (this is not a toll-free number); lreynolds@cdc.gov.

SUPPLEMENTARY INFORMATION: The NIOSH B Reader program, established in 42 CFR 37.52, certifies physicians as being able to apply the International Labour Organization (ILO) International Classification of Radiographs of Pneumoconioses in classifying posteroanterior chest radiographic images for the presence and severity of appearances of pneumoconiosis (a type of dust-induced lung disease). In the United States, B Readers classify chest radiographic images of workers participating in health surveillance programs.¹ These workers have jobs involving exposure to mineral dusts that can cause pneumoconiosis such as coal mine dust, crystalline silica, and asbestos.

¹ See https://www.cdc.gov/niosh/chestradiography/php/breader/.

B Readers participate in several types of activities involving classification of chest radiographs. Physicians who classify chest radiographs for certain Federal surveillance programs such as the NIOSH Coal Workers' Health Surveillance Program must be B Readers. Additionally, B Readers provide classifications for research purposes and for certain legal and administrative activities such as compensation programs.

Currently, only physicians licensed to practice medicine in the United States can serve as certified B Readers in the United States, and only after successfully completing the B Reader examination. The examination, developed by NIOSH in partnership with the American College of Radiology, is rigorous and tests physicians' ability to apply the ILO classification system. International physicians may also take the B Reader examination to document their ability to apply the ILO classification system, but those who pass the examination do not serve as certified B Readers in the United States.

As of October 2024, 184 U.S. physicians based in 35 States and 2 Territories are NIOSH-certified B Readers. NIOSH is interested in ensuring that B Readers are available to classify chest radiographs obtained in all states and territories. To meet this goal, NIOSH is requesting information from parties interested in allowing nurse practitioners and physician assistants to be eligible to take the NIOSH B Reader examination and become certified B Readers if they successfully pass the examination. NIOSH is particularly interested in receiving information about the following questions:

1. What is the current demand for B Readers, and would expanding the program to include nurse practitioners and physician assistants help meet this demand?

2. Are there specific geographic areas or populations that might benefit from having nurse practitioners and physician assistants certified as B Readers?

3. Are there any potential risks associated with expanding the B Reader certification to nurse practitioners and physician assistants and, if so, how can those risks be mitigated?

4. ILO classification of chest radiographs is not the same as clinical interpretation. Are there states where scope of practice and standards of care allow nurse practitioners and physician assistants to perform clinical interpretation of chest radiographs without physician oversight? In states where physician oversight is required for clinical interpretation, is it also required for ILO classification? What would be the best approach to ensuring that appropriate clinical interpretations are obtained for all contemporary chest radiographs undergoing ILO classification by nurse practitioners and physician assistants?

5. How do you anticipate different interested parties (e.g., physicians, nurse practitioners and physician assistants, industry representatives, workers, health profession boards) would view the potential expansion of the B Reader program to include non-physicians?

6. What challenges might arise during the implementation of this expansion, and how could they be effectively managed?

7. Do you have any other information or comments relevant to whether nurse practitioners and physician assistants should be able to become B Readers and, if so, the best way to implement that expansion?

John J. Howard,
Director, National Institute for Occupational Safety and Health, Centers for Disease Control and Prevention, Department of Health and Human Services.

[FR Doc. 2024-29622 Filed 12-16-24; 8:45 am]

BILLING CODE 4163-18-P